DEPARTMENT OF STATE

[Public Notice 5909]

International Security Advisory Board (ISAB) Meeting Notice-Rescheduling of October 1 Meeting

The closed meeting of the International Security Advisory Board (ISAB) originally scheduled for October 1, 2007, and published as Public Notice 5859 in the Federal Register of August 27, 2007 (Volume 72, Number 165, page 49038), has been rescheduled. The new meeting date is October 19, 2007.

For more information, contact Brandy Buttrick, Deputy Executive Director of the International Security Advisory Board, Department of State, Washington, DC 20520, telephone: (202) 647-9336.

Dated: September 14, 2007.
George W. Look,
Executive Director, International Security Advisory Board, Department of State.

[FR Doc. E7-18698 Filed 9-20-07; 8:45 am]

BILLING CODE 4710-27-P